POSTAL REGULATORY COMMISSION

[Docket Nos. MC2013-64 and CP2013-84; Order No. 1850]

New Postal Product

AGENCY: Postal Regulatory Commission.

ACTION: Notice.

SUMMARY: The Commission is noticing recent Postal Service filings requesting the addition of Global Reseller Expedited Package Contracts 3 product to the competitive product list and the inclusion of a related agreement within the new product. This notice informs the public of the filings, invites public comment, and takes other administrative steps.

DATES: Comments are due: October 25, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Contents of Filing

III. Commission Action

IV. Ordering Paragraphs

I. Introduction

On September 30, 2013, the Postal Service filed a formal request pursuant to 39 U.S.C. 3642 and 39 CFR 3020.30 et seq. to add Global Reseller Expedited Package (GREP) Contracts 3 to the competitive product list.¹ The Postal Service contemporaneously filed a related Agreement. Id. Attachment 4.

¹ Request of the United States Postal Service to Add Global Reseller Expedited Package Contracts 3 to the Competitive Products List and Notice of Filing a Global Reseller Expedited Package 3 Negotiated Service Agreement, September 30, 2013 (Request).

Product history. Customers for GREP contracts are sales agents (also known as resellers) who market Global Express Guaranteed, Priority Mail Express International, Priority Mail International, and/or First-Class Package International Service to their customers in return for a rebate on the sales of those products. Request at 5.

Governors' Decision No. 10-1 established pricing formulas and classifications “not of general applicability” for the GREP Contracts 1 product. The Commission added GREP Contracts 1 and GREP Contracts 2 to the competitive product list by operation of Order Nos. 445 and 1746, respectively.² Id. at 1-2. The instant dockets address a new GREP Contracts 3 product and a new baseline agreement. Id. at 2. The Postal Service states the proposed classification change adding GREP Contracts 3 to the Mail Classification Schedule (MCS) is consistent with the requirements of 39 U.S.C. 3642, and proposes conforming revisions to MCS section 2510.7, which covers GREP Contracts. Id. at 7; Attachment 2B.

² See respectively Docket Nos. MC2010-21 and CP2010-36 and Docket Nos. MC2013-51 and CP2013-64.

II. Contents of Filing

In support of its Request, the Postal Service filed the following six attachments:

• Attachment 1—an application for non-public treatment of materials filed under seal;

• Attachment 2A—a redacted copy of Governors' Decision No. 11-6, which authorizes Postal Service management to prepare any necessary product description of nonpublished competitive services, including text for inclusion in the MCS, and to present such matter for review by the Commission;

• Attachment 2B—draft MCS language;

• Attachment 2C—a redacted version of the certified statement attesting to the accuracy of supporting data and addressing compliance with 39 U.S.C. 3633(a)(1) and (3), as required by 39 CFR 3015.5(c)(2);

• Attachment 3—a Statement of Supporting Justification addressing statutory policies and criteria and other matters, as required by 39 CFR 3020.32; and

• Attachment 4—a redacted copy of the Agreement.

The Postal Service also filed supporting financial documents for the Agreement as separate Excel files. The Postal Service filed unredacted versions of the Agreement, Governors' Decision No. 11-6, and the certified statement. Request at 4.

Effective date; term. The Postal Service will notify the customer of the effective date within 90 days of receipt of all necessary regulatory approvals. Request at 5, Attachment 4 at 5. The Agreement is scheduled to expire 12 months from the effective date. Id.

III. Commission Action

The Commission establishes Docket Nos. MC2013-64 and CP2013-84 for consideration of matters raised in the Request.³ Interested persons may submit comments on whether the Postal Service's filings in the captioned dockets are consistent with the policies of 39 U.S.C. 3632, 3633, or 3642, 39 CFR part 3015, and 39 CFR 3020 subpart B. Comments are due no later than October 25, 2013. The public portions of these filings can be accessed via the Commission's Web site (http://www.prc.gov). Information on how to obtain access to non-public material appears at 39 CFR part 3007.

³ The request to add GREP Contracts 3 to the MCS has been assigned Docket No. MC2013-64. The Agreement has been assigned Docket No. CP2013-84.

The Commission appoints James F. Callow to serve as Public Representative in these dockets.

IV. Ordering Paragraphs

It is ordered:

1. The Commission establishes Docket Nos. MC2013-64 and CP2013-84 for consideration of matters raised by the Postal Service's Request.

2. Comments by interested persons in these proceedings are due no later than October 25, 2013.

3. Pursuant to 39 U.S.C. 505, James F. Callow is appointed to serve as an officer of the Commission (Public Representative) to represent the interests of the general public in these proceedings.

4. The Secretary shall arrange for publication of this order in the Federal Register.

By the Commission.
Shoshana M. Grove,
Secretary.

[FR Doc. 2013-24897 Filed 10-23-13; 8:45 am]

BILLING CODE 7710-FW-P